SECURITIES AND EXCHANGE COMMISSION

[Release No. 34-67234; File No. SR-ISE-2012-26]

Self-Regulatory Organizations; International Securities Exchange, LLC; Notice of Withdrawal of Proposed Rule Change To List and Trade Option Contracts Overlying 10 Shares of a Security

June 21, 2012.

On April 9, 2012, the International Securities Exchange, LLC (“ISE”) filed with the Securities and Exchange Commission (“Commission”), pursuant to Section 19(b)(1) of the Securities Exchange Act of 1934¹ and Rule 19b-4 thereunder,² a proposed rule change to list and trade option contracts overlying 10 shares of a security. Notice of the proposed rule change was published in the Federal Register on April 24, 2012.³ The Commission received five comment letters on the proposed rule change.⁴ On June 1, 2012, the Commission extended the time period for Commission action to July 23, 2012.⁵ On June 11, 2012, ISE withdrew the proposed rule change (SR-ISE-2012-26).

¹ 15 U.S.C. 78s(b)(1).

² 17 CFR 240.19b-4.

³ See Securities Exchange Act Release No. 66827 (April 18, 2012), 77 FR 24547.

⁴ See letters to Elizabeth M. Murphy, Secretary, Commission, from Christopher Nagy, Managing Director Order Routing & Market Data Strategy, TD Ameritrade, dated April 30, 2012; Manisha Kimmel, Executive Director, Financial Information Forum, dated April 30, 2012; Edward T. Tilly, President and Chief Operating Officer, Chicago Board Options Exchange, Incorporated, dated April 30, 2012; Joan C. Conley, Senior Vice President & Corporate Secretary, The NASDAQ OMX Group, Inc., dated April 30, 2012; and Jennifer Green Setzenfand, Chairman of the Board and James Toes, President and CEO, Security Traders Association, dated June 8, 2012.

⁵ See Securities Exchange Act Release No. 67097 (June 1, 2012), 77 FR 33794 (June 7, 2012).

For the Commission, by the Division of Trading and Markets, pursuant to delegated authority.⁶
⁶ 17 CFR 200.30-3(a)(12).
Kevin M. O'Neill,
Deputy Secretary.

[FR Doc. 2012-15637 Filed 6-26-12; 8:45 am]

BILLING CODE 8011-01-P